DEPARTMENT OF COMMERCE

National Oceanic and Atmospheric Administration

50 CFR Parts 223 and 224

[Docket No. 241016-0272; RTID 0648-XF174]

Endangered and Threatened Wildlife and Plants; Proposed Listing Determinations for Ten Species of Giant Clams Under the Endangered Species Act; Extension of Public Comment Period

AGENCY: National Marine Fisheries Service (NMFS), National Oceanic and Atmospheric Administration (NOAA), Department of Commerce.

ACTION: Proposed rule; extension of public comment period.

SUMMARY: We, NMFS, announce the extension of the public comment period on our July 25, 2024 proposed rule to list 5 species of giant clams as endangered and 5 species of giant clams as threatened under the Endangered Species Act (ESA) and to issue protective regulations for the 5 proposed threatened species under section 4(d) of the ESA. As part of that proposed action, we solicited comments on the proposed rule, a draft environmental assessment (EA), and an initial regulatory flexibility analysis (IRFA) over a 90-day comment period, which was scheduled to close on October 23, 2024. Comments previously submitted do not need to be resubmitted, as they will be fully considered in the agency's proposed action.

DATES: The comment period for the proposed rule published July 25, 2024 at 89 FR 60498, is extended. The deadline for receipt of comments is extended from October 23, 2024 to February 19, 2025.

ADDRESSES: You may submit data, information, or written comments on this document, identified by NOAA-NMFS-2017-0029, by either of the following methods:

• Electronic Submissions: Submit all electronic public comments via the Federal e-Rulemaking Portal. Go to https://www.regulations.gov and enter NOAA-NMFS-2017-0029 in the Search box. Click on the “Comment” icon, complete the required fields, and enter or attach your comments.

• Mail: Submit written comments to Endangered Species Division, Office of Protected Resources (F/PR3), National Marine Fisheries Service, 1315 East West Highway, Silver Spring, MD 20910, USA, Attn: Giant Clams Species Listing Proposed Rule.

Instructions: Comments sent by any other method, to any other address or individual, or received after the end of the comment period, may not be considered by NMFS. All comments received are a part of the public record and will generally be posted for public viewing on https://www.regulations.gov without change. All personally identifying information (e.g., name, address, etc.), confidential business information, or otherwise sensitive information submitted voluntarily by the sender will be publicly accessible. NMFS will accept anonymous comments (enter “N/A” in the required fields if you wish to remain anonymous).

The Status Review Report associated with this determination, its references, and the petition can be accessed electronically at: https://www.fisheries.noaa.gov/action/proposed-rule-10-species-giant-clams-under-endangered-species-act. The peer review plan, associated charge statement, and peer review report can be accessed electronically at: https://www.noaa.gov/information-technology/status-review-report-of-7-giant-clam-species-petitioned-under-us-endangered-species-act-hippopus. The draft EA and IRFA associated with the proposed ESA section 4(d) regulation for Tridacna crocea, T. maxima, T. noae, and T. squamosa can be accessed electronically via the Federal e-Rulemaking Portal by navigating to https://www.regulations.gov and entering NOAA-NMFS-2017-0029 in the Search box.

FOR FURTHER INFORMATION CONTACT: John Rippe, NMFS Office of Protected Resources, 301-427-8467; John.Rippe@noaa.gov.

SUPPLEMENTARY INFORMATION:

Background

On July 25, 2024, we published a proposed rule to list 5 species of giant clams as endangered and 5 species of giant clams as threatened under the ESA and to issue protective regulations for the five proposed threatened species under section 4(d) of the ESA (89 FR 60498). In that notification, we also announced the availability of a draft EA and IRFA associated with the proposed ESA section 4(d) regulation for Tridacna crocea, T. maxima, T. noae, and T. squamosa. We solicited comments on the proposed rule, draft EA, and IRFA during a 90-day period, which is scheduled to end on October 23, 2024.

On August 30, 2024, we received a formal request from the Territorial governments of American Samoa, Guam, and the Commonwealth of the Northern Mariana Islands to extend the public comment period by 120 days in order to provide additional time to thoroughly review and analyze the proposed rule, associated reports, and supporting datasets and to engage with key stakeholders. We received additional requests from the Western Pacific Regional Fishery Management Council on September 27, 2024 and from U.S. Rep. James Moylan on October 4, 2023 similarly asking for a 120-day extension to allow more time for community members to provide informed comments in response to the proposed rule.

In our evaluation of these requests, we considered several factors that may justify such a lengthy extension to the public comment period. We considered that the proposed rule includes extinction risk analyses and associated listing determinations for seven different species of giant clams. We also considered that the proposed rule includes the proposed listing of four species of giant clams on the basis of similarity of appearance. Importantly, three of these four species had been included in the initial petition for listing, but we concluded that the petition did not present substantial scientific or commercial information indicating that listing these species under the ESA may be warranted (82 FR 28946, June 26, 2017). Thus, the subsequent proposal to list these species on the basis of their similarity of appearance may reasonably warrant additional time for public review and comment. Lastly, we considered that the proposed rule includes two separate 4(d) regulations, one associated with the species proposed to be listed as threatened based on extinction risk (Hippopus hippopus) and the other associated with the four species proposed to be listed as threatened based on similarity of appearance (T. crocea, T. maxima, T. noae, and T. squamosa).

Given the aforementioned factors contributing to the complexity of the proposed rule, we conclude that there is good cause, consistent with 50 CFR 424.16(c)(2), to extend the public comment period by an additional 120 days, which will allow sufficient time for responders to submit comments without significantly delaying finalization of the proposed rule. We are, therefore, extending the close of the public comment period from October 23, 2024, to February 19, 2025.

Authority: 16 U.S.C. 1531 et seq.

Dated: October 17, 2024.
Samuel D. Rauch III,
Deputy Assistant Administrator for Regulatory Programs, National Marine Fisheries Service.

[FR Doc. 2024-24533 Filed 10-22-24; 8:45 am]

BILLING CODE 3510-22-P